DEPARTMENT OF HEALTH AND HUMAN SERVICES

Administration for Children and Families

[Program Announcement No. ACYF-PA-HS-02-01B

Discretionary Announcement of the Availability of Funds and Request for Applications for Select Service Areas of Early Head Start; Correction

AGENCY: Administration for Children, Youth and Families, ACF, DHHS.

ACTION: Correction.

SUMMARY: This document contains a correction to the Notice that was published in the Federal Register on September 20, 2001.

On page 48474, Appendix A, Part I, in the State of Washington, in the State and county column, delete “King”, in the FY 2002 funding level column delete “805,124” and in the Service area column delete “City of Seattle: Yesler Terrace, Holly Park, High Point and Ranier Vista Public Housing Districts”.

On page 48476, Appendix A, Part II, in the State of Washington, in the State and county Column delete “None” and add the county of “King”, in the FY 2002 funding level column add “805,124”, and in the Service area column add “City of Seattle: Yesler Terrace, Holly Park, High Point, and Ranier Vista Public Housing Districts”.

FOR FURTHER INFORMATION CONTACT: The ACYF Operations Center at 1-800-351-2293 or send an email to ehs@lcgnet.com. You can also contact Sherri Ash, Early Head Start, Head Start Bureau at (202) 205-8562.

Dated: December 20, 2001.
James A. Harrell,
Acting Commissioner, Administration on Children, Youth and Families.

[FR Doc. 01-31884 Filed 12-27-01; 8:45 am]

BILLING CODE 4184-01-M